DEPARTMENT OF TRANSPORTATION

Office of the Secretary

[Docket No. FMCSA-2013-0306]

Privacy Act of 1974; Department of Transportation, Federal Motor Carrier Safety Administration; DOT/FMCSA 001Motor Carrier Management Information System (MCMIS) System of Records

AGENCY: Federal Motor Carrier Safety Administration (FMCSA), DOT.

ACTION: Notice to amend a system of records.

SUMMARY: In accordance with the Privacy Act of 1974, the Department of Transportation proposes to update and reissue a current Department of Transportation system of records titled, “Department of Transportation Federal Motor Carrier Safety Administration DOT/FMCSA 001 Motor Carrier Management Information System System of Records.” This system of records will allow the Department of Transportation Federal Motor Carrier Safety Administration to collect and maintain records on drivers of commercial motor vehicles and individuals who are sole proprietor/driver (owner/operator) of a motor carrier or hazardous material shipper subject to the Federal Motor Carrier Safety Regulations.

As a result of a biennial review of this system, the Privacy Office has: added three routine uses of the MCMIS to permit disclosure of MCMIS records to the (1) National Transportation Safety Board; (2) to Federal, State, and local government agencies for the purposes of household goods (HHG) investigations and enforcing HHG statues and regulation; and (3) to Federal, State and local government agencies for the purposes of driver, motor carrier, broker, and freight forwarder investigations, and enforcing commercial operating statutes and regulations.

Additionally this notice includes non-substantive changes to simplify the formatting and text of the previously published notice. This updated system will be included in the Department of Transportation's inventory of record systems.

DATES: Written comments should be submitted on or before October 25, 2013. The Department may publish an amended SORN in light of any comments received. This new system will be effective October 25, 2013.

ADDRESSES: You may submit comments, identified by docket number FMCSA-2013-0306, by any of the following methods:

• Federal e-Rulemaking Portal: http://www.regulations.gov. Follow the instructions for submitting comments.

• Mail: Docket Management Facility, U.S. Department of Transportation, 1200 New Jersey Ave. SE., West Building Ground Floor, Room W12-140, Washington, DC 20590-0001.

• Hand Delivery or Courier: West Building Ground Floor, Room W12-140, 1200 New Jersey Ave. SE., between 9 a.m. and 5 p.m. ET, Monday through Friday, except Federal Holidays.

• Fax: (202) 493-2251.

Instructions: You must include the agency name and docket number FMCSA-2013-0306. All comments received will be posted without change to http://www.regulations.gov, including any personal information provided.

Privacy Act: Anyone is able to search the electronic form of all comments received in any of our dockets by the name of the individual submitting the comment (or signing the comment, if submitted on behalf of an association, business, labor union, etc.). You may review DOT's complete Privacy Act statement for the Federal Docket Management System in the Federal Register published on January 17, 2008 (73 FR 3316), or you may visit http://DocketsInfo.dot.gov.

Docket: For access to the docket to read background documents or comments received, go to http://www.regulations.gov or to the street address listed above. Follow the online instructions for accessing the docket.

FOR FURTHER INFORMATION CONTACT: For general questions please contact: Pam Gosier-Cox, FMCSA Privacy Officer, Federal Motor Carrier Safety Administration, Department of Transportation, Washington, DC 20590, 202-366-3655, pam.gosier.cox@dot.gov. For privacy issues please contact: Claire W. Barrett, Departmental Chief Privacy Officer, Privacy Office, Department of Transportation, Washington, DC 20590; privacy@dot.gov; or 202.366.8135.

SUPPLEMENTARY INFORMATION:

I. Background

In accordance with the Privacy Act of 1974, 5 U.S.C. 552a, the Department of Transportation (DOT)/Federal Motor Carrier Safety Administration (FMCSA) proposes to update and reissue a current DOT system of records titled, “Department of Transportation Federal Motor Carrier Safety Administration—DOT/FMCSA 001 Motor Carrier Management Information System System of Records.” The system is being modified to reflect changes in its Authorities and Routine Uses. The Authorities section has been updated by removing references to Executive Order 9397 as MCMIS is not used to “create permanent account numbers pertaining to individual persons.” This updated system of records notice includes three new Routine Uses; the first new routine use permits sharing with the National Transportation Safety Board (NTSB) in connection with NTSB initiated investigations involving motor carriers, interstate motor carriers, and hazardous material shippers; the second permits sharing of MCMIS information with Federal, State, and local government agencies for the purposes of household goods investigations (HHG) and enforcing HHG statutes and regulations; and the third permits the sharing of MCMIS information with Federal, State, and local government agencies for the purpose of driver, motor carrier, broker, and freight forwarder investigations, and enforcing commercial operating statutes and regulations. The routine uses permitting the sharing of MCMIS information with contractors and to safeguard against and respond to the improper disclosure breach of personally identifiable information have been removed to reflect the Department's establishment of General Routine Use permitting these sharing applicable to all DOT system of records.

The notice includes substantive clarifications to the Purposes of Collection and Records Disposition discussions to clarify the Department's practice which was not effectively described in previous publications of this system of records notice. Additionally this notice includes non-substantive changes to simplify the formatting and clarify the text of the previously published notice. This updated system will be included in DOT's inventory of record systems.

II. Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information).

In accordance with 5 U.S.C. 552a(r), DOT has provided a report of this system of records to the Office of Management and Budget and to Congress.

SYSTEM OF RECORDS

Department of Transportation (DOT)/Federal Motor Carrier Safety Administration (FMCSA) DOT/FMCSA—001 Motor Carrier Management Information System.

SYSTEM NAME:

Department of Transportation Federal Motor Carrier Safety Administration (FMCSA)—001 Motor Carrier Management Information System.

SECURITY CLASSIFICATION:

Unclassified

SYSTEM LOCATION:

Volpe National Transportation Systems Center, U.S. Department of Transportation, Cambridge, MA 02142

CATEGORIES OF INDIVIDUALS COVERED BY THE SYSTEM:

MCMIS records may contain personally identifiable information (PII) on the following's categories of individuals which may be retrieved by unique identifier associated with the individual;

1. Individuals who are the sole proprietor and/or owner of a motor carrier or hazardous material shipper subject to Federal Motor Carrier Safety Regulations and who have provided a social security number (SSN) in lieu of an employer identification number (EIN).

MCMIS records may also include personally identifiable information on the following categories of individuals, however this information is not retrieved by unique identifier associated with the individual.

1. Individuals who are owner/operators officers, managers, and employees of a motor carrier or hazardous material shipper subject to Federal Motor Carrier Safety Regulations.

2. Drivers of commercial motor vehicles who:

• Were involved in a recordable crash;

• Were the subject of a roadside driver/vehicle inspection;

• Are the subjects of an investigatory action; or

• Are employed by a motor carrier which is the subject of an investigation.

CATEGORIES OF RECORDS IN THE SYSTEM:

MCMIS stores the following types of information:

• Census Files—These files contain the USDOT number, carrier identification, carrier address, type and size of operation, commodities carried, and other characteristics of the operation for interstate (and some intrastate) motor carriers, intermodal equipment providers, cargo tank facilities, and shippers. They include motor carrier PII consisting of social security numbers (SSN) and employee identification numbers (EIN).

• Investigatory Files—These files contain results of safety audits, compliance review investigations, and enforcement actions conducted by federal, state, and local law enforcement agencies. They include driver, co-driver, owner, officer, manager, and employee PII consisting of SSN and EIN.

• Driver/Vehicle Safety Violations and Inspection Data—This data is collected during roadside inspections of drivers and vehicles and includes driver and co-driver PII consisting of names, dates of birth, vehicle license plate numbers, and state driver's license numbers.

• Crash Data—This data is collected from state and local police crash reports and includes driver and co-driver PII consisting of names, dates of birth, vehicle license plate numbers, and state driver's license numbers.

MCMIS Shares PII with the Following Systems or System Components:

• Driver Information Resource (DIR)—The DIR creates a driver profile using MCMIS crash data from the past five years and inspection data from the past three years. This profile shows PII data for the driver regardless of the employing carrier. The DIR also includes driver/vehicle safety violations and inspection data per the PSP description below. Access is restricted to FMCSA staff, FMCSA contractors and Motor Carrier Safety Assistance Program (MCSAP) State lead agencies.

• Pre-Employment Screening System (PSP)—The specific objectives of the PSP are aligned with the requirements of 49 U.S.C. 31150. The PSP will provide driver crash and inspection records from the DIR to requesting motor carriers that have a driver's consent. The PSP allows a driver to review his/her own driver-related data in the DIR.

• Driver Safety Measurement System (DSMS)—FMCSA utilizes MCMIS data in the DSMS to support the Compliance Safety Accountability (CSA) initiative and its Driver Safety Measurement System (DSMS). The DSMS uses driver/vehicle safety violations and inspection data and crash data to evaluate the safety performance of Commercial Motor Vehicle (CMV) drivers in seven categories. Access is restricted to FMCSA enforcement personnel, FMCSA Headquarters (HQ) staff and MCSAP State lead agencies.

• Carrier Safety Measurement System (CSMS)—FMCSA utilizes MCMIS data in the CSMS to support the CSA initiative and its DSMS. The CSMS uses driver/vehicle safety violations and inspection data and crash data to evaluate the safety of motor carriers. Access is restricted to FMCSA enforcement, federal and local law enforcement personnel, FMCSA HQ staff, MCSAP State lead agencies and law enforcement agencies that are FMCSA grantees. The objective of CSMS is to provide an assessment of a carrier's regulatory compliance and safety performance.

• Safety Fitness Electronic Records (SAFER)—The SAFER Web site receives MCMIS driver/vehicle safety violations and inspection data and census data on a daily basis for report generation. Although SAFER receives driver-related PII from MCMIS, SAFER reports for the public users contain no PII. The driver-related PII from MCMIS is included on the Company Safety Profile reports that are requested by commercial motor carriers for their company and enforcement officers.

• Enforcement Management Information System (EMIS)—The EMIS is a web-based application used to monitor, track, and store information related to FMCSA enforcement actions. It manages and tracks enforcement actions associated with notifying the carrier, monitoring the carrier's response, determining whether further compliance action is required, and generating reports for various FMCSA Headquarters, FMCSA Service Center, and FMCSA Division staff. It is an authoritative source for FMCSA enforcement data. EMIS imports census files, investigatory files, driver/vehicle safety violations and inspection data, and crash data from MCMIS for the purpose of automatically initiating UNFIT/UNSATISFACTORY cases within EMIS resulting from Safety Rating letters generated by MCMIS.

• Analysis & information (A&I) Online—The A&I is a web-based tool designed to provide quick and efficient access to descriptive statistics and analyses regarding commercial vehicle, driver, and carrier safety information. It is used by Federal, State and local law enforcement personnel, the motor carrier industry, insurance companies, and the general public. A&I imports census files, investigatory files, driver/vehicle safety violations and inspection data, and crash data from MCMIS for the purpose of processing a monthly data snapshot of the MCMIS database.

• ProVu—ProVu is an application that allows Federal and State enforcement personnel and the motor carrier industry to electronically view standard motor carrier safety profile reports available from the FMCSA. ProVu imports driver/vehicle safety violations and inspection data and crash data in a standard report exported from MCMIS for the purpose of generating Company Safety Profile reports.

• Compliance Analysis and Performance Review Information (CAPRI)—CAPRI is used by Federal and State enforcement personnel when conducting compliance reviews and safety audits, specialized cargo tank facility reviews, household good investigations, and hazardous material (HM) shipper reviews. CAPRI includes worksheets for collecting census files, investigatory files, driver/vehicle safety violations and inspection data, and crash data from MCMIS to track (1) hours of service, (2) driver qualifications, and (3) drug and alcohol compliance. It also creates the preliminary carrier safety fitness rating and various reports for motor carriers.

• Sentri—Sentri (formerly known as the Mobile Client Application) SENTRI is used by Federal and State enforcement personnel to access motor carrier and driver information. SENTRI combines roadside inspection, investigative, and enforcement functions into a single interface.

• McQuery—The MCMIS database is copied into McQuery, creating an exact image of the MCMIS database. The data in McQuery is used for responding to Freedom of Information Act (FOIA) requests and other requests for public information, generating special data requests for FMCSA, and supporting the operations of FMCSA.

• GOTHAM—GOTHAM is an internal FMCSA analysis system that utilizes selected extracts of MCMIS data and is only accessible through the DOT/FMCSA Intranet. GOTHAM imports census files, investigatory files, driver/vehicle safety violations and inspection data, and crash data from MCMIS for the purpose of delivering standard reports via the Intranet.

• Docket Management System (DMS)—DMS is a National Transportation Safety Board NTSB system that stores investigative material in one of two ways. Documents that are categorized in DMS “For Official Use Only” (“OUO”) are found only in the non-public side of the docket. In these instances, the documents are accessible only by those NTSB employees that are allowed access to NTSB Office of Highway Safety dockets. If a document is placed in the publicly available portion of DMS, NTSB redacts any PII.

• New Application Screening (NAS)—NAS is an application, which is populated by A&I, that identifies potential “chameleon carriers” within the FMCSA past and present carrier population. This tool provides you with the ability to search for specific carriers and identify relationships to other past and present carriers.” Currently, NAS is available to select FMCSA personnel. It is searchable by motor carrier name, state, and address.

MCMIS SHARES NON-PII WITH THE FOLLOWING FMCSA SYSTEMS OR SYSTEM COMPONENTS:

• Query Central (QC)—QC is a secure web application that provides Federal and State safety enforcement personnel with a single location where they can enter one query and obtain targeted safety data on commercial motor vehicle (CMV) carriers, vehicles, and drivers from multiple sources in FMCSA and Customs and Border Patrol. QC does not maintain a database of its own, but instead pulls data from the authoritative sources in real-time. QC utilizes MCMIS to verify carrier information. QC displays privacy-related information on drivers from MCMIS.

• Licensing and Insurance System (L&I)—The L&I system is used to enter and display licensing and insurance information regarding authorized for-hire motor carriers, foreign motor carriers, freight forwarders, and property brokers. It is the authoritative source for FMCSA licensing and insurance data. L&I is part of the registration process. L&I imports information from MCMIS as follows:

—Data about carriers that received unsatisfactory ratings;

—Data about Out-of-Service carriers; and

—USDOT numbers for synchronization with docket numbers.

• Hazmat Registration (HMReg)—HMReg exports data from MCMIS to the Pipeline and Hazardous Materials Safety Administration (PHMSA) database server in response to HAZMAT registration data requests.

AUTHORITY FOR MAINTENANCE OF THE SYSTEM:

49 U.S.C. 502, 504, 506, 508, Chapter 139, and 49 CFR 1.73.

PURPOSE(S):

The purpose of this system is to provide a central collection point for records on some intrastate motor carriers, interstate motor carrier, hazardous material shipper, freight brokers and freight forwarders in order to facilitate the analysis of data required to administer and manage the agency's safety and commercial enforcement programs.

ROUTINE USES OF RECORDS MAINTAINED IN THE SYSTEM, INCLUDING CATEGORIES OF USERS AND THE PURPOSES OF SUCH USES:

1. In addition to those disclosures generally permitted under 5 U.S.C. 552a(b) of the Privacy Act, all or a portion of the records or information contained in this system may be disclosed outside DOT as a routine use pursuant to 5 U.S.C. 552a(b)(3) as follows: To federal, state, local, and foreign government agencies for the purposes of enforcing motor carrier and Hazardous Materials shipper safety.

2. To State lead agencies and other law enforcement grantees under the FMCSA Motor Carrier Safety Assistance Grant Program and Border Enforcement Grant program, which is a federal grant program that provides financial assistance to states for their work in reducing in the frequency and severity of CMV crashes and hazardous materials incidents.

3. To the National Transportation Safety Board (NTSB) in connection with NTSB investigations involving motor carriers, interstate motor carriers, and hazardous material shippers.

4. To Federal, State, and local government agencies for the purposes of household goods investigations (HHG) and enforcing HHG statutes and regulations.

5. To Federal, State and local government agencies for the purposes of driver, motor carrier, broker, and freight forwarder investigations, and enforcing commercial operating statutes and regulations.

6. See “Prefatory Statement of General Routine Uses” (available at http://www.dot.gov/privacy/privacyactnotices). Other possible routine uses of the information, applicable to all DOT Privacy Act systems of records, are published in the Federal Register at 75 FR 82132, December 29, 2010, and 77 FR 42797, July 20, 2012 under “Prefatory Statement of General Routine Uses” (available at http://www.dot.gov/privacy/privacyactnotices).

DISCLOSURE TO CONSUMER REPORTING AGENCIES:

None.

POLICIES AND PRACTICES FOR STORING, RETRIEVING, ACCESSING, RETAINING, AND DISPOSING OF RECORDS IN THE SYSTEM:

STORAGE:

MCMIS records are stored in an automated system operated and maintained at the Volpe National Transportation Systems Center (Volpe Center) in Cambridge, MA.

RETRIEVABILITY:

Records may be retrieved by; individuals' name, Social Security Number, Employer Identification Number, company name, trade name, and geographical location.

SAFEGUARDS:

Records in this system are safeguarded in accordance with applicable rules and policies, including all applicable DOT automated systems security and access policies. Strict controls have been imposed to minimize the risk of compromising the information that is being stored. Access to records in this system is limited to those individuals who have a need to know the information for the performance of their official duties and who have appropriate clearances or permissions.

RETENTION AND DISPOSAL:

Records will be retained and disposed in accordance with National Archives and Records Administration (NARA) retention disposition schedule (RDS) NI-557-05-007 item #5. Master data files are retained on a permanent basis. For a complete discussion of the RDS please see www.nara.gov.

SYSTEM MANAGER AND ADDRESS:

The system manager is the Division Chief, IT Development Division; Office of Information Technology; Federal Motor Carrier Safety Administration; U.S. Department of Transportation; 1200 New Jersey Avenue SE; W68-330; Washington, DC 20590

NOTIFICATION PROCEDURE:

Individuals seeking notification of and access to any record contained in this system of records, or seeking to contest its content, may submit a request in writing to the Tiffanie Coleman, FMCSA FOIA Officer whose contact information can be found at http://www.dot.gov/foia under “Contact Us.” If an individual believes more than one component maintains Privacy Act records concerning him or her, the individual may submit the request to the Departmental Freedom of Information Act Office, U.S. Department of Transportation, Room W94-122, 1200 New Jersey Ave. SE., Washington, DC 20590, ATTN: FOIA request.

When seeking records about yourself from this system of records or any other Departmental system of records your request must conform with the Privacy Act regulations set forth in 49 CFR Part 10. You must sign your request, and your signature must either be notarized or submitted under 28 U.S.C. 1746, a law that permits statements to be made under penalty of perjury as a substitute for notarization. While no specific form is required, you may obtain forms for this purpose from the Chief Freedom of Information Act Officer, http://www.dot.gov/foia or 202.366.4542. In addition you should provide the following:

An explanation of why you believe the Department would have information on you;

• Identify which component(s) of the Department you believe may have the information about you;

• Specify when you believe the records would have been created;

• Provide any other information that will help the FOIA staff determine which DOT component agency may have responsive records; and

If your request is seeking records pertaining to another living individual, you must include a statement from that individual certifying his/her agreement for you to access his/her records. Without this bulleted information the component(s) may not be able to conduct an effective search, and your request may be denied due to lack of specificity or lack of compliance with applicable regulations.

RECORD ACCESS PROCEDURES:

See “Notification procedure” above.

CONTESTING RECORD PROCEDURES:

See “Notification procedure” above.

RECORD SOURCE CATEGORIES:

Records are obtained from roadside driver/vehicle inspections and crash reports submitted by state and local law enforcement agencies and from investigations performed by state and federal investigators. State officials and FMCSA field offices forward safety information to MCMIS immediately after it has been compiled and processed locally.

EXEMPTIONS CLAIMED FOR THE SYSTEM:

Pursuant to subsection (k)(2) of the Privacy Act (5 U.S.C. 552a), portions of this system are exempt from the requirements of subsections (c)(3), (d), (e)(4)(G)-(I) and (f) of the Act, for the reasons stated in DOT's Privacy Act regulation (49 CFR Part 10, Appendix, Part II, at A.8). See 66 FR 20406, April 23, 2001. A copy of this Notice and accompanying Privacy Act Exemptions Final Rule may be found on the DOT Privacy Office Web site—www.dot.gov/privacy.

Issued in Washington, DC, on September 18, 2013.
Claire W. Barrett,
Departmental Chief Privacy Officer.

[FR Doc. 2013-23131 Filed 9-24-13; 8:45 am]

BILLING CODE 4910-9X-P